DEPARTMENT OF ENERGY

Federal Energy Regulatory Commission

[Docket No. RP99-518-010]

PG&E Gas Transmission, Northwest Corporation; Notice of Compliance Filing

February 18, 2000.

Take notice that on February 14, 2000, PG&E Gas Transmission, Northwest Corporation (PG&E GT-NW) tendered for filing as part of its FERC Gas Tariff, First Revised Volume No. 1-A, Second Substitute Original Sheet No. 68A. PG&E GT-NW requests that this Tariff sheet become effective October 30, 1999.

PG&E GT-NW states that this sheet is being filed in compliance with the Commission's January 28, 2000 Order in this Docket.

PG&E GT-NW further states that a copy of this filing has been served on PG&E GT-NW's jurisdictional customers, interested state regulatory agencies, and all parties on the Commission's official service list for this proceeding.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-4452 Filed 2-24-00; 8:45 am]

BILLING CODE 6717-01-M